DEPARTMENT OF JUSTICE

[AAG/A Order No. 192-2000]

Privacy Act of 1974; System of Records

AGENCY: Department of Justice.

ACTION: Notice of a Modified System of Records.

SUMMARY: Under the provisions of the Privacy Act of 1974 (5 U.S.C. 552a), the Environment and Natural Resources Division, Department of Justice, proposes to modify a system of records last published in the Federal Register on December 11, 1987 (52 FR 47274), and entitled, “Lands Docket Tracking System (JUSTICE/LDN-003).” The Division proposes these modifications because the Lands Docket Tracking System has been replaced by a successor case management and tracking system and it did not include the broader category of the Division's case-related files.

Specifically, the Division will modify the system notice by renaming it, “Environment and Natural Resources Division Case and Related Files System (JUSTICE/ENDR-003)”; revising the category of records covered by the system (adding case files and attorney and employee timekeeping files); revising the description of the case tracking system to reflect new and successor programs; adding routine uses for the new category of records (primarily relating to the management and handling of case files during investigation and litigation, and to public access to the records pursuant to federal statutes or regulations); deleting and revising routine uses to provide clarity and additional specificity; revising the categories of records to show that the system contains national security, civil investigatory and criminal law enforcement information; and indicating that a rule has been promulgated to exempt the system from certain Privacy Act provisions. Because of the number of changes made and for public convenience, the revised system notice has been printed below in full, replacing the previous notice in its entirety. The exemption of this system is more fully described in the Proposed Rules Section of today's Federal Register.

Section 552a(e)(4) and (11) of the Privacy Act require that the public be given 30 days to comment on new routine uses of information in the system. The Office of Management and Budget (OMB), which has oversight responsibility under the Act, requires 40 days to review the proposed new routine uses and exemptions for the system. Therefore, the public, OMB, and the Congress are invited to submit written comments by April 3, 2000.

DATES: The proposed modifications to the System of Records will be effective April 3, 2000, unless comments are received that result in a contrary determination.

ADDRESSES: Submit written comments to the Department of Justice, Attn: Mary E. Cahill, Management Analyst, Management and Planning Staff, Justice Management Division, Department of Justice, National Place Building, Room 1400 North, 1331 Pennsylvania Avenue, NW, Washington, DC 20530. If no comments are received, the proposal will be implemented without further notice in the Federal Register.

Dated: January 27, 2000.
Stephen R. Colgate,
Assistant Attorney General for Administration.

JUSTICE/ENRD-003

System name: Environment and Natural Resources Division Case and Related Files System.

Security classification: Unclassified.

System location: Environment and Natural Resources Division, U.S. Department of Justice, 950 Pennsylvania Ave., NW, Washington, DC 20530; DC offices (601 D Street, NW, Washington, DC 20004; 601 Pennsylvania Ave., NW, Washington, DC 20004; 1425 New York Ave., NW, Washington, DC 20005; 801 Pennsylvania Ave., NW, Washington, DC 20004); field offices (in Anchorage, AK; Sacramento, CA; San Francisco, CA; Denver, CO; Newton Corner, MA; and Seattle, WA); and Federal Records Center, Suitland, MD 20409.

Categories of individuals covered by the system: (a) Individuals being investigated in anticipation of civil or criminal suits; (b) Individuals involved in civil or criminal suits; (c) Defense or plaintiff's counsel(s); (d) Information sources; (e) Individuals relevant to the development of civil or criminal suits, including expert and other witnesses; (f) Individual plaintiffs or defendants; and (g) Attorneys, paralegals, and other employees of the Environment and Natural Resources Division directly involved in these cases or matters.

Categories of records in the system: (1) Records in this system are established and maintained for litigation and related activities by the Environment and Natural Resources Division, including, but not limited to, the protection, use and development of natural resources and public lands, wildlife protection, Indian rights and claims, cleanup of hazardous waste sites, acquisition of private property for federal use, prosecution of environmental crimes, enforcement of environmental laws, and defense of environmental challenges to government programs and activities. The case files contain court records (such as briefs, motions, and orders), inter-agency and intra-agency correspondence, legal research, and other related documents. These records may include civil investigatory and/or criminal law enforcement information and information classified pursuant to Executive Order to protect national security interests. (2) Summary information of these cases or matters (such as names of principal parties or subjects, court docket numbers, status, and attorney assignments) is maintained in an automated case management system (CMS). (3) A timekeeping function for attorneys, paralegals, and other employees of the Environment and Natural Resources Division supplements the automated case management system.

Authority for maintenance of the system: Authority to establish and maintain this system is contained in 5 U.S.C. 301 and 44 U.S.C. 3101, which authorize the Attorney General to create and maintain federal records of agency activities.

Purpose(s): Case records are maintained to litigate or otherwise resolve civil or criminal cases or matters handled by the Environment and Natural Resources Division. The automated case tracking and timekeeping system are maintained to manage and evaluate the Division's litigation and related activities.

Routine uses of records maintained in the system, including categories of users and the purposes of such uses:

(a) In any case in which there is an indication of a violation or potential violation of law (civil, criminal, or regulatory in nature), the record may be disseminated to the appropriate federal, state, local, tribal, or foreign agency charged with the responsibility of investigating, defending or pursuing such violation, civil or criminal claim or remedy, or charged with enforcing, defending or implementing such law;

(b) In the course of investigating a potential or actual violation of any law, or during the course of (or in preparation for) a trial or hearing for such a violation, a record may be disseminated to an individual, agency or organization, if there is reason to believe that such individual, agency or organization possesses relevant information relating to the investigation (or trial or hearing) and the dissemination is reasonably necessary to elicit information or to obtain the cooperation of a witness or an agency;

(c) A record relating to a case or matter may be disseminated in a federal, state, local, or tribal administrative or regulatory proceeding or hearing in accordance with the procedures governing such proceeding or hearing;

(d) A record relating to a case or matter may be disseminated to an actual or potential party of his or her attorney, or a third party neutral, for the purpose of negotiation or discussion on such matters as settlement of the case or discussion on such matters as settlement of the case or matter, and for formal or informal discovery proceedings;

(e) A record relating to a case or matter that has been referred by an agency for investigation, civil or criminal action, enforcement or defense, or that involves a case or matter within the jurisdiction of an agency, may be disseminated to such agency to notify the agency of the status of the case or matter, or of any decision or determination that has been made, or to make such other inquiries and reports as are necessary during the processing of the case or matter;

(f) A record relating to a case or matter may be disseminated to a foreign country, through the United States Department of State or directly to the representative of such country, pursuant to an international treaty or convention entered into and ratified by the United States or to an executive agreement;

(g) A record may be disseminated to a foreign country, through the Department of Justice Civil Division, United States Department of State, or directly to the representative of such country, to the extent necessary to assist such country in general crime prevention, the pursuit of civil or criminal judicial actions or general civil regulatory or administrative actions, or to provide investigative leads to such country, or assist in the location and/or returning of witnesses and other evidence;

(h) A record, or facts derived from it, may be disclosed in a grand jury proceeding or in a proceeding before a court or adjudicative body before which the Environment and Natural Resources Division is authorized to appear when the United States, or any of its agencies or subdivisions, is a party to litigation, and the Environment and Natural Resources Division has determined that such records are arguably relevant to the litigation;

(i) Information permitted to be released to the news media and the public pursuant to 28 CFR 50.2 (Department of Justice regulations setting forth guidelines for disclosure of information to the media) may be made available from this system of records unless it is determined that release of the specific information in the context of a particular case would constitute an unwarranted invasion of personal privacy;

(j) A record may be disseminated to a federal, state, or local agency, in response to its request, in connection with the hiring or retention of an employee, the issuance of security clearance, the reporting of an investigation of an employee, the letting of a contract, or the issuance of a license, grant, or other benefit by the requesting agency, to the extent that the information relates to the requesting agency's decision on the matter;

(k) Pursuant to Subsection b(12) of the Privacy Act, records relating to an individual who owes an overdue debt to the United States may be disseminated to a federal agency which employs the individual; a consumer reporting agency; a federal, state, local or foreign agency; or the Internal Revenue Service (IRS);

(l) Information contained in this system of records may be made available to a Member of Congress or staff acting upon the Member's behalf when the Member or staff requests the information on the behalf of and at the request of the individual who is the subject of the records, even if the information would not otherwise be available under the Freedom of Information Act, 5 U.S.C. 552.

(m) Records may be disclosed to the National Archives and Records Administration in records management inspections conducted under the authority of 44 U.S.C. 2904 and 2906.

(n) Information may be released to complainants or victims to the extent necessary to provide such persons with information and explanations concerning the progress or results of the investigation or case arising from their complaint or involvement as a victim.

(o) Timekeeping records may be disclosed to opposing parties and to courts in litigation regarding litigation costs.

Disclosure to consumer reporting agencies: See Routine Use (k) listed above.

Policies and practices for storing, retrieving, accessing, retaining and disposing of records of the system: Storage: All information, except that specified in this paragraph, is recorded on computer files or basic paper/cardboard material that is stored in file folders, file cabinets, shelves, or safes. Some material is recorded and stored on other data processing storage forms.

Retrievability: Information is retrieved primarily by name of the case or person, case number, complaint number or court docket number. Information within this system of records may be accessed by Environment and Natural Resources Division employees by means of the Case Management System (CMS) or successor systems.

Safeguards: Information in the system is both confidential and nonconfidential and located in file cabinets in the Environment and Natural Resources Division offices in Washington, D.C., and field office locations. Information also is located in litigation support contract document centers and off-site storage locations. Confidential materials are in locked file drawers and safes, and nonconfidential materials are in unlocked file drawers. Offices are secured by either Federal Protective Service or private building guards. Information that is retrievable by Environment and Natural Resources Division personnel trained to access the Case Management System (CMS) or the time-keeping system or successor systems within various Environment and Natural Resources Division offices is password protected and required access to the Department's secure Justice Consolidated Office Automation Network (JCON).

Retention and Disposal: Records are retained or disposed of after a case is closed in accordance with a retention and disposal schedule approved by the National Archives and Records Administration. The time period that records are maintained ranges from 10 years after a matter is closed to permanently.

System manager(s) and address: The System Manager is the Assistant Director, Office of Information Technology, in coordination with the Office of Planning and Management's Records Management Unit.

Notification Procedure: Address inquiries to the FOIA/Privacy Act Coordinator; Environment and Natural Resources Division; Policy, Legislation and Special Litigation Section; PO Box 4390; Ben Franklin Station; Washington, DC 20044-4390.

Record Access Procedures: Portions of this system are exempt from disclosure and contest by 5 U.S.C. 552a(j)(2), (k)(1) and/or (k)(2). An individual who is the subject of a record in this system may access those records that are not exempt from disclosure. A determination whether a record may be accessed will be made at the time a request is received. Submit in writing all requests for access, and clearly mark the envelope and letter, “Privacy Act Access Request.” Include in the request your full name, date and place of birth, case caption, or other information which may assist in locating the records you seek. Also include your notarized signature and a return address. Direct all access requests to the FOIA/Privacy Act Coordinator; Environment and Natural Resources Division; Policy, Legislation and Special Litigation Section; PO Box 4390, Ben Franklin Station, Washington, DC 20044-4390.

Contesting Record Procedures: Portions of this system are exempt from this requirement under 5 U.S.C. 552a(j)(2), (k)(1) and/or (k)(2). An individual may contest those records that are not subject to exemption. A determination whether a record is exempt from contest shall be made at the time a request for contest is received. If you wish to contest or amend information maintained in the system, direct your request to FOIA/PA Coordinator stating clearly and concisely what information is being contested, the reasons for contesting it, and the proposed amendment to the information you seek.

Record Source Categories: Sources of information contained in this system include, but are not limited to investigative reports of client agencies of the Department of Justice; discovery materials; other than non-Department of Justice forensic reports; statements of witnesses and parties; verbatim transcripts of depositions and court proceedings; data, public reports, memoranda and reports from the court and agencies thereof; and the work product of Environment and Natural Resources Division Attorneys, Department of Justice attorneys, investigators, staff, and legal assistants working on particular cases or matters.

Exemptions claimed for the system: The Privacy Act authorizes an agency to promulgate rules to exempt any system of records (or part of a system of records) from certain Privacy Act requirements, if the system of records is maintained by an agency which performs as its principal function any activity pertaining to the enforcement of criminal laws (5 U.S.C. 552a(j)(2)); it is investigatory material compiled for law enforcement purposes (5 U.S.C. 552a(k)(2)); or it is required by Executive Order to be kept secret in the interest of national defense or foreign policy (5 U.S.C. 552a(k)(1).

Under these authorities, the Attorney General has promulgated rules to exempt those records in this system that pertain to the enforcement of criminal laws, that are investigatory materials compiled for law enforcement purposes, or that are classified secret by an Executive Order, from the following Privacy Act requirements: (1) The requirement under (c)(3) to make available to the individual named in the record an accounting of the circumstances under which records about the individual were disclosed; (2) the requirement under (e)(1) to maintain only such information about an individual that is relevant and necessary to accomplish a purpose of the agency; and (3) the requirement under (f) to establish agency procedures to respond to an individual's request for information about himself. The Attorney General also has promulgated a rule to exempt records in this system compiled for criminal enforcement purposes from these additional requirements: (1) The requirement under (c)(4) to inform any party or agency that received an individual's records about any subsequent corrections made to the record; (2) the requirement under (e)(2) to collect information to the greatest extent practicable directly from the individual when the information may result in adverse determinations about an individual's rights, benefits and privileges under Federal programs; (3) the requirement under (e)(3) to inform each individual from whom information is collected of the authority for the information the principal purposes for the information, the routine uses, and the effects, if any, of not providing the information; (4) the requirement under (e)(5) to maintain all records with such accuracy, relevance, timeliness and completeness as is reasonably necessary to assure fairness to the individual, (5) the requirement under (e)(8) to make reasonable efforts to serve notice on an individual when any record on the individual is made available to any person under compulsory legal process when that process becomes a matter of public record; and (6) the authority under (g) providing that individuals may bring a civil action against the agency for violations of the Privacy Act.

[FR Doc. 00-3116 Filed 2-22-00; 8:45 am]

BILLING CODE 4410-CJ-M